DEPARTMENT OF ENERGY

Environmental Management Site-Specific Advisory Board, Northern New Mexico

AGENCY: Office of Environmental Management, Department of Energy.

ACTION: Notice of open virtual meeting.

SUMMARY: This notice announces an online virtual meeting of the Environmental Management Site-Specific Advisory Board (EM SSAB), Northern New Mexico. The Federal Advisory Committee Act requires that public notice of this online virtual meeting be announced in the Federal Register.

DATES: Wednesday, July 21, 2021; 1:00 p.m.-5:00 p.m.

ADDRESSES: This meeting will be held virtually via Webex. To attend, please contact Menice Santistevan by email, Menice.Santistevan@em.doe.gov, no later than 5:00 p.m. MT on Monday, July 19, 2021.

To Sign Up for Public Comment: Please contact Menice Santistevan by email, Menice.Santistevan@em.doe.gov, no later than 5:00 p.m. MT on Monday, July 19, 2021.

FOR FURTHER INFORMATION CONTACT: Menice Santistevan, Northern New Mexico Citizens' Advisory Board (NNMCAB), 94 Cities of Gold Road, Santa Fe, NM 87506. Phone (505) 995-0393 or Email: Menice.Santistevan@em.doe.gov.

SUPPLEMENTARY INFORMATION:

Purpose of the Board: The purpose of the Board is to make recommendations to DOE-EM and site management in the areas of environmental restoration, waste management, and related activities.

Tentative Agenda

• Overview and Approval of Agenda

• Approval of May 19, 2021 Minutes

• Old Business

○ Update from NNMCAB Chair and Vice Chair

• New Business

○ Appointment of Nominating Committee

• Update from EM Los Alamos Field Office

• Update from N3B

• Update from New Mexico Environment Department

• Presentation on Water Quality Data

• Public Comment Period

• Update on Chromium Plume Interim Measure

• Questions and Discussion Regarding Possible Recommendation(s)

Public Participation: The online virtual meeting is open to the public. Written statements may be filed with the Board either before or within five days after the meeting by sending them to Menice Santistevan at the aforementioned email address. The Deputy Designated Federal Officer is empowered to conduct the meeting in a fashion that will facilitate the orderly conduct of business. Individuals wishing to make public comments will be provided a maximum of five minutes to present their comments.

Minutes: Minutes will be available by writing or calling Menice Santistevan at the address or telephone number listed above. Minutes and other Board documents are on the internet at: https://www.energy.gov/em/nnmcab/meeting-materials.

Signed in Washington, DC, on June 16, 2021.
LaTanya Butler,
Deputy Committee Management Officer.

[FR Doc. 2021-13327 Filed 6-23-21; 8:45 am]

BILLING CODE 6450-01-P